DEPARTMENT OF ENERGY

Federal Energy Regulatory Commission

[Project No. 14850-000]

Covington Mountain Hydro, LLC.; Notice of Preliminary Permit Application Accepted for Filing and Soliciting Comments, Motions To Intervene, and Competing Applications

On July 3, 2017, the Covington Mountain Hydro, LLC, filed an application for a preliminary permit, pursuant to section 4(f) of the Federal Power Act (FPA), proposing to study the feasibility of the Bison Peak Pumped Storage Project (Bison Peak Project or project) to be located in the Tehachapi Mountains south of Tehachapi, Kern County, California. The sole purpose of a preliminary permit, if issued, is to grant the permit holder priority to file a license application during the permit term. A preliminary permit does not authorize the permit holder to perform any land-disturbing activities or otherwise enter upon lands or waters owned by others without the owners' express permission.

The proposed project would be a closed-loop pumped storage project with an upper reservoir and the applicant has proposed three alternatives for the placement of a lower reservoir, termed South, Law, and Horsethief. Water for the initial fill of either of the alternatives would be obtained from local water agency infrastructure via a route that would be identified during studies.

A 35-foot ring dam and a perimeter of 4,900 feet would form the project's upper reservoir. The upper reservoir would have a total storage capacity of 1,300 acre-feet and a surface area of 20 acres at an elevation of 7,890 feet mean sea level (msl). The upper reservoir would be connected to one of the three proposed lower reservoir alternatives as described below.

The South lower reservoir alternative would consist of the following: (1) The upper reservoir; (2) a 19-acre lower reservoir at 4,920 feet msl created by a dam with a crest height of 160 feet, crest length of 610 feet, and a storage capacity of 1,300 acre-feet; (3) a 9.1-foot diameter, 9,700-foot-long penstock from the upper reservoir that bifurcates creating an additional 6.5-foot diameter, 700-foot-long penstock; (4) an underground powerhouse with three 120-megawatt (MW) reversible pump-turbines and a surface powerhouse with a single 120-MW Pelton turbine; (5) an intake/tailrace facility; and (6) appurtenant facilities. The estimated annual generation of the South lower reservoir alternative would be about 1,051 gigawatt-hours.

The Law lower reservoir alternative would consist of the following: (1) The upper reservoir; (2) a 19-acre lower reservoir at 5,370 feet msl created by a dam with a crest height of 145 feet, crest length of 750 feet, and a storage capacity of 1,300 acre-feet; (3) a 9.5-foot diameter, 9,900-foot-long penstock from the upper reservoir that bifurcates creating an additional 6.7-foot diameter, 1,300-foot-long penstock; (4) an underground powerhouse with three 110-MW reversible pump-turbines and a surface powerhouse with a single 110-MW Pelton turbine; (5) an intake/tailrace facility; and (6) appurtenant facilities. The estimated annual generation of the Law lower reservoir alternative would be about 963 gigawatt-hours.

The Horsethief lower reservoir alternative would consist of the following: (1) The upper reservoir; (2) a 18-acre lower reservoir at 5,940 feet msl created by a dam with a crest height of 150 feet, crest length of 750 feet, and a storage capacity of 1,300 acre-feet; (3) a 9.5-foot-diameter, 9,000-foot-long penstock from the upper reservoir; (4) a mostly underground powerhouse with two 180-MW reversible pump-turbines; (5) an intake/tailrace facility; and (6) appurtenant facilities. The estimated annual generation of the Horsethief lower reservoir alternative would be about 788.4 gigawatt-hours.

All alternatives would include a 220-kilovolt transmission line with a length of 10 to 12 miles.

Applicant Contact: Matthew Shapiro, Covington Mountain Hydro, LLC., 1210 West Franklin St., #2, Boise, ID 83702; phone: (208) 246-9925.

FERC Contact: Jim Fargo; phone: (202) 502-6095.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Kimberly D. Bose, Secretary, Federal Energy Regulatory Commission, 888 First Street NE, Washington, DC 20426. The first page of any filing should include docket number P-14850-000.

More information about this project, including a copy of the application, can be viewed or printed on the eLibrary link of Commission's website at http://www.ferc.gov/docs-filing/elibrary.asp. Enter the docket number (P-14850) in the docket number field to access the document. For assistance, contact FERC Online Support.

Dated: January 4, 2018.
Nathaniel J. Davis, Sr.,
Deputy Secretary.

[FR Doc. 2018-00282 Filed 1-9-18; 8:45 am]

BILLING CODE 6717-01-P